DEPARTMENT OF HOMELAND SECURITY

Federal Emergency Management Agency

[Docket ID FEMA-2012-0003; Internal Agency Docket No. FEMA-B-1278]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Ohio:
Fulton | Unincorporated areas of Fulton County, (11-05-8659P) | The Honorable Dean Genter, President, Fulton County Board of Commissioners, 152 South Fulton Street, Suite 270, Wauseon, OH 43567 | 152 South Fulton Street, Wauseon, OH 43567 | http://www.starr-team.com/starr/LOMR/Pages/RegionV.aspx | September 12, 2012 | 390182
Fulton | Village of Delta, (11-05-8659P) | The Honorable Dan D. Miller, Mayor, Village of Delta, 401 Main Street, Delta, OH 34515 | 401 Main Street, Delta, OH 43515 | http://www.starr-team.com/starr/LOMR/Pages/RegionV.aspx | September 12, 2012 | 390183
Oklahoma:
Tulsa | City of Broken Arrow, (11-06-0831P) | The Honorable Craig Thurmond, Mayor, City of Broken Arrow, 220 South 1st Street, Broken Arrow, OK 74012 | Department of Public Works, 485 North Poplar Avenue, Broken Arrow, OK 74102 | http://www.rampp-team.com/lomrs.htm | December 31, 2012 | 400236
Tulsa | City of Tulsa (11-06-0831P) | The Honorable Dewey F. Bartlett, Jr., Mayor, City of Tulsa, 175 East 2nd Street, Tulsa, OK 74103 | Development Services, 175 East 2nd Street, Suite 450, Tulsa, OK 74103 | http://www.rampp-team.com/lomrs.htm | December 31, 2012 | 405381
Pennsylvania:
Cumberland | Township of Lower Allen (12-03-1797P) | The Honorable H. Edward Black, President, Township of Lower Allen Board of Commissioners, 2233 Gettysburg Road, Camp Hill, PA 17011 | Township of Lower Allen Municipal Services Center, 2233 Gettysburg Road, Camp Hill, PA 17011 | http://www.rampp-team.com/lomrs.htm | January 7, 2013 | 421016
Lancaster | Borough of Manheim (11-03-1822P) | The Honorable Eric Phillips, Mayor, Borough of Manheim, 15 East High Street, Manheim, PA 17545 | Borough Office, 15 East High Street, Manheim, PA 17545 | http://www.rampp-team.com/lomrs.htm | January 14, 2013 | 420555
Lancaster | Township of Penn (11-03-1822P) | The Honorable David A. Sarley, Chairman, Township of Penn Board of Supervisors, 97 North Penryn Road, Manheim, PA 17545 | Penn Township Office, 97 North Penryn Road, Manheim, PA 17545 | http://www.rampp-team.com/lomrs.htm | January 14, 2013 | 421778
Texas:
Bexar | City of San Antonio (12-06-1378P) | The Honorable Julian Castro, Mayor, City of San Antonio, 100 Military Plaza, San Antonio, TX 78205 | Municipal Plaza, 114 West Commerce Street, 7th Floor, San Antonio, TX 78205 | http://www.rampp-team.com/lomrs.htm | January 10, 2013 | 480045
Bexar | City of Shavano Park (12-06-1046P) | The Honorable A. David Marne, Mayor, City of Shavano Park, 900 Saddletree Court, Shavano Park, TX 78231 | City Hall, 900 Saddletree Court, Shavano Park, TX 78231 | https://www.rampp-team.com/lomrs.htm | August 30, 2012 | 480047
Bexar | Unincorporated areas of Bexar County (12-06-0857P) | The Honorable Nelson W. Wolff, Bexar County Judge, Paul Elizondo Tower, 101 West Nueva Street, 10th Floor, San Antonio, TX 78205 | Public Works Department, 233 North Pecos- La Trinidad Street, Suite 420, San Antonio, TX 78207 | http://www.rampp-team.com/lomrs.htm | January 10, 2013 | 480035
Bexar | Unincorporated areas of Bexar County (12-06-2935P) | The Honorable Nelson W. Wolff, Bexar County Judge, Paul Elizondo Tower, 101 West Nueva Street, 10th Floor, San Antonio, TX 78205 | Public Works Department, 233 North Pecos- La Trinidad Street, Suite 420, San Antonio, TX 78207 | http://www.rampp-team.com/lomrs.htm | January 10, 2013 | 480035
Dallas | City of Dallas, (12-06-0869P) | The Honorable Mike Rawlings, Mayor, City of Dallas, 1500 Marilla Street, Room 5EN, Dallas, TX 75201 | Department of Public Works, 320 East Jefferson Boulevard, Room 321, Dallas, TX 75203 | http://www.rampp-team.com/lomrs.htm | January 7, 2013 | 480171
Dallas | City of Garland (12-06-0869P) | The Honorable Ronald E. Jones, Mayor, City of Garland, 200 North 5th Street, Garland, TX 75040 | City Hall, 800 Main Street, Garland, TX 75040 | http://www.rampp-team.com/lomrs.htm | January 7, 2013 | 485471
Dallas | City of Rowlett (12-06-0869P) | The Honorable Todd W. Gottel, Mayor, City of Rowlett, 4000 Main Street, Rowlett, TX 75088 | City Hall, 4000 Main Street, Rowlett, TX 75088 | http://www.rampp-team.com/lomrs.htm | January 7, 2013 | 480185
Denton | City of The Colony (12-06-0484P) | The Honorable Joe McCourry, Mayor, City of The Colony, 6800 Main Street, The Colony, TX 75056 | 6800 Main Street, The Colony, TX 75056 | https://www.rampp-team.com/lomrs.htm | September 6, 2012 | 481581
Harris | Unincorporated areas of Harris County (12-06-1235P) | The Honorable Ed Emmett, Harris County Judge, 1001 Preston Street, Suite 911, Houston, TX 77002 | 10555 Northwest Freeway, Suite 120, Houston, TX 77092 | https://www.rampp-team.com/lomrs.htm | September 5, 2012 | 480287
Harris | Unincorporated areas of Harris County (12-06-1269P) | The Honorable Ed Emmett, Harris County Judge, 1001 Preston Street, Suite 911, Houston, TX 77002 | 10555 Northwest Freeway, Suite 120, Houston, TX 77092 | https://www.rampp-team.com/lomrs.htm | September 28, 2012 | 480287
Harris | Unincorporated areas of Harris County (12-06-0881P) | The Honorable Ed Emmett, Harris County Judge, 1001 Preston Street, Suite 911, Houston, TX 77002 | 10555 Northwest Freeway, Suite 120, Houston, TX 77092 | http://www.rampp-team.com/lomrs.htm | December 31, 2012 | 480287
Lubbock | Unincorporated areas of Lubbock County (12-06-0396P) | The Honorable Tom Head, Lubbock County Judge, 904 Broadway Street, Suite 101, Lubbock, TX 79401 | Lubbock County Courthouse 904 Broadway Street, Lubbock, TX 79401 | http://www.rampp-team.com/lomrs.htm | January 10, 2013 | 480915
Montgomery | Unincorporated areas of Montgomery County, (12-06-0710P) | The Honorable Alan B. Sadler, Montgomery County Judge, 501 North Thompson Street, Suite 401, Conroe, TX 77301 | Montgomery County Permitting Department, 501 North Thompson Street, Suite 100, Conroe, TX 77301 | https://www.rampp-team.com/lomrs.htm | September 7, 2012 | 480483
Tarrant | City of North Richland Hills (12-06-0693P) | The Honorable T. Oscar Trevino, Jr., P.E., Mayor, City of North Richland Hills, 7301 Northeast Loop 820, North Richland Hills, TX 76180 | 7301 Northeast Loop 820, North Richland Hills, TX 76180 | https://www.rampp-team.com/lomrs.htm | September 7, 2012 | 480607
Webb | City of Laredo (11-06-3586P) | The Honorable Raul G. Salinas, Mayor, City of Laredo, 1110 Houston Street, Laredo, TX 78040 | 1120 San Bernardo Avenue, Laredo, TX 78042 | https://www.rampp-team.com/lomrs.htm | September 12, 2012 | 480651
Wichita | City of Wichita Falls (12-06-0348P) | The Honorable Glenn Barham, Mayor, City of Wichita Falls, P.O. Box 1431, Wichita Falls, TX 76307 | City Hall, 1300 7th Street, Wichita Falls, TX 76301 | http://www.rampp-team.com/lomrs.htm | January 7, 2013 | 480662

(Catalog of Federal Domestic Assistance No. 97.022, “Flood Insurance.”)

James A. Walke,
Acting Deputy Associate Administrator for Mitigation, Department of Homeland Security, Federal Emergency Management Agency.

[FR Doc. 2012-31374 Filed 12-28-12; 8:45 am]

BILLING CODE 9110-12-P